DEPARTMENT OF COMMERCE

National Oceanic and Atmospheric Administration

50 CFR Part 648

[Docket No. 020306047-2047-01; I.D. 082302A]

Fisheries of the Northeastern United States; Summer Flounder, Scup, and Black Sea Bass Fisheries; Adjustment to the 2002 Black Sea Bass Total Allowable Landings (TAL)

AGENCY: National Marine Fisheries Service (NMFS), National Oceanic and Atmospheric Administration (NOAA), Commerce.

ACTION: Notification of restoration to the 2002 black sea bass TAL.

SUMMARY: NMFS restores 10,000 lb (4,534 kg) of unused research set-aside to the 2002 black sea bass TAL, and makes corresponding adjustments to the 2002 black sea bass recreational harvest limit and the 2002 Quarter 4 commercial quota. This action complies with Framework Adjustment 1 to Summer Flounder, Scup, and Black Sea Bass Fishery Management Plan (FMP), which implemented procedures for setting aside up to 3 percent of the annual TAL to fund research activities for the summer flounder, scup, and black sea bass fisheries. Framework Adjustment 1 also specified that, if a research proposal is disapproved by NMFS or the NOAA Grants Office, the research set-aside for that proposal would be reallocated (i.e., added back) into the TAL. On June 21, 2002, NMFS disapproved a research project for which 10,000 lb (4,534 kg) of the black sea bass TAL had been set-aside. The intent of this action is to restore 10,000 lb (4,536 kg) to the overall 2002 black sea bass TAL.

DATES: Effective September 3, 2002.

FOR FURTHER INFORMATION CONTACT: Richard A. Pearson, Fishery Policy Analyst, (978) 281-9279.

SUPPLEMENTARY INFORMATION:

Background

NMFS published a final rule in the Federal Register on August 10, 2001 (66 FR 42156), implementing Framework Adjustment 1 to the FMP. Framework Adjustment 1 implemented procedures for setting aside up to 3 percent of the annual TAL to fund research activities for the summer flounder, scup, and black sea bass fisheries. Framework Adjustment 1 also specified that, if a proposal is disapproved by NMFS or the NOAA Grants Office, the research set-aside for that proposal would be reallocated (i.e., added back) into the TAL.

On December 26, 2001, NMFS published a final rule in the Federal Register (66 FR 66348) announcing specifications for the 2002 summer flounder, scup, and black sea bass fisheries. An initial TAL of 6,800,000 lb (3,084,428 kg) was established for the black sea bass fishery. Four research projects utilizing the black sea bass research quota set-aside were recommended for approval by a review committee. As a result, 76,005 lb (34,475 kg) of black sea bass quota was set aside for those four research projects. Therefore, a TAL of 6,723,995 lb (3,049,953 kg) was implemented in the final rule. Under procedures in the FMP, the overall TAL is then allocated 49 percent to the commercial sector and 51 percent to the recreational sector, which resulted in a 2002 commercial quota of 3,294,758 lb (1,494,477 kg) and a 2002 recreational harvest limit of 3,429,237 lb (1,555,476 kg).

NMFS formally disapproved one of the black sea bass research projects on June 21, 2002. The disapproved project had been allocated 10,000 lb (4,536 kg) of the black sea bass research quota set-aside. This action is necessary to restore 10,000 lb (4,536 kg) to the overall 2002 black sea bass TAL. The resulting 2002 black sea bass TAL is 6,733,994 lb (3,054,488 kg). Of the 10,000 lb (4,536 kg) being restored, 4,900 lb (2,223 kg) is added to the commercial quota and 5,100 lb (2,313 kg) is added to the recreational harvest limit. The resulting commercial quota is 3,299,657 lb (1,496,699 kg) and the recreational harvest limit is 3,434,337 lb (1,557,789 kg).

Because the first three quarters of the 2002 black sea bass commercial fishing year have already closed, the entire portion of the additional commercial quota (4,900 lb (2,223 kg)) is being added to Quarter 4. The resulting adjusted 2002 black sea bass commercial quota for Quarter 4 is 656,274 lb (297,681 kg).

Although 5,100 lb (2,313 kg) of black sea bass is being restored to the recreational harvest limit, it does not alter the existing recreational management measures that have been established to ensure that the recreational harvest limit is not exceeded. A minimum fish size of 11.5 inches (29.2 cm), a 25- fish recreational possession limit, and a year-round open season will remain in effect.

Classification

This action is required by 50 CFR part 648 and is exempt from review under Executive Order 12866.

Authority: 16 U.S.C. 1801 et seq.

Dated: August 27, 2002.
Virginia M. Fay,
Acting Director, Office of Sustainable Fisheries, National Marine Fisheries Service.

[FR Doc. 02-22352 Filed 8-30-02; 8:45 am]

BILLING CODE 3510-22-S